DEPARTMENT OF EDUCATION

Office of Special Education and Rehabilitative Services; List of Correspondence

AGENCY: Department of Education.

ACTION: List of correspondence from October 1, 2000 through December 31, 2000.

SUMMARY: The Secretary is publishing the following list pursuant to section 607(d) of the Individuals with Disabilities Education Act (IDEA). Under section 607(d) of IDEA, the Secretary is required, on a quarterly basis, to publish in the Federal Register a list of correspondence from the Department of Education received by individuals during the previous quarter that describes the interpretations of the Department of Education of IDEA or the regulations that implement IDEA.

FOR FURTHER INFORMATION CONTACT: Melisande Lee or JoLeta Reynolds. Telephone: (202) 205-5507. If you use a telecommunications device for the deaf (TDD) you may call (202) 205-5465 or the Federal Information Relay Service (FIRS) at 1-800-877-8339.

Individuals with disabilities may obtain a copy of this notice in an alternative format (e.g., Braille, large print, audiotape, or computer diskette) on request to Katie Mincey, Director of the Alternate Formats Center. Telephone: (202) 205-8113.

SUPPLEMENTARY INFORMATION: The following list identifies correspondence from the Department issued between October 1, 2000 and December 31, 2000.

Included on the list are those letters that contain interpretations of the requirements of IDEA and its implementing regulations, as well as letters and other documents that the Department believes will assist the public in understanding the requirements of the law and its regulations. The date and topic addressed by a letter are identified, and summary information is also provided, as appropriate. To protect the privacy interests of the individual or individuals involved, personally identifiable information has been deleted, as appropriate.

Part A—General Provisions

Section 602—Definitions

Topic Addressed: Child with a Disability

• Letter dated November 21, 2000 to U.S. Congressman Peter Hoekstra regarding the appropriate roles of educators and physicians in respectively providing Part B services to, and conducting medical diagnoses of, students with attention deficit disorder (ADD) or attention deficit hyperactivity disorder (ADHD).

Part B—Assistance for Education of All Children With Disabilities

Section 611—Authorization; Allotment; Use of Funds; Authorization of Appropriations

Section 619—Preschool Grants

Topic Addressed: Use of Funds

• Letters dated December 12, 2000 to individuals, (personally identifiable information redacted), regarding revisions to the formula for distribution of funds awarded under Part B of IDEA and increases in Federal funding levels for special education programs.

Section 612—State Eligibility

Topic Addressed: Confidentiality

• Letters dated October 26, 2000 to U.S. Congressman Peter Hoekstra and to U.S. Congressman Bob Schaffer regarding privacy requirements that ensure the confidentiality of student information collected by the Department in connection with all surveys and information collections.

Topic Addressed: Children in Private Schools

• Letter dated October 2, 2000 to Attorney Michael I. Inzelbuch regarding the ability of a hearing officer to require a school district to provide Part B services to children in parochial private school settings and the need to review on a case-by-case basis applicable law including the establishment of religion clause of the First Amendment of the U.S. Constitution.

Topic Addressed: State Educational Agency General Supervisory Authority

• Letter dated December 12, 2000 to individual, (personally identifiable information redacted), regarding the provisions in the IDEA Amendments of 1997 that reduce unnecessary paperwork.

• Letter dated December 20, 2000 to U.S. Senator John Edwards clarifying that, to reduce paperwork, there is no requirement that school districts use any specific forms as long as their content is consistent with the IDEA Amendments of 1997.

Topic Addressed: Information Required for Receipt of Grant Awards

• OSEP memorandum 01-4 dated November 9, 2000 regarding procedures for States to follow to receive a grant award under sections 611 and 619 of Part B of IDEA for Federal Fiscal Year 2001.

Topic Addressed: Interagency Coordination

• Letter dated December 27, 2000 to Oregon Department of Education Executive Legal Officer, C. Gregory McMurdo, regarding interagency agreements and financial responsibility under Part B of the IDEA and the Rehabilitation Act of 1973 with regard to transition services for students with disabilities.

Section 615—Procedural Safeguards

Topic Addressed: Mediation

• OSEP memorandum 01-5 dated November 30, 2000 restating and consolidating the Department's guidance regarding mediation under Part B of IDEA.

Topic Addressed: Due Process Hearings

• Letter dated October 19, 2000 to Attorney Winona W. Zimberlin regarding Connecticut's statutory provisions (a) establishing a two-year limit for requesting a due process hearing; (b) prohibiting the introduction of issues at a hearing that were not previously raised in a planning and placement team meeting; and (c) enabling hearing officers to comment on the conduct of due process proceedings.

• Letter dated November 22, 2000 to Vermont State Department of Education Legal Counsel, John A. Nelson, regarding the requirement to provide parents with transcripts of due process hearings at no cost.

Topic Addressed: Student Discipline

• Letter dated December 20, 2000 to U.S. Senator Bob Graham regarding the types of disciplinary removals that are available under IDEA ’97, including placement in interim alternative educational settings.

Part C—Infants and Toddlers With Disabilities

Sections 631-641

Topic Addressed: Payor of Last Resort

• Letter dated December 19, 2000 to Office of CHAMPUS Management Activity regarding proposed CHAMPUS regulations (including its “pay first” and “medical services” provisions) and their relationship to Part C's “payor of last resort” and other provisions.

Topic Addressed: State Lead Agency General Supervisory Responsibility

• Letter dated October 19, 2000 to Louisiana Department of Education Superintendent, Cecil Picard, regarding the lead agency's responsibility under Part C concerning general administration and supervision, together with assigning financial responsibility among appropriate agencies.

Topic Addressed: State Interagency Coordinating Council

• OSEP memorandum 01-2 dated November 8, 2000 regarding the requirements for submitting annual performance reports, and clarifying that a single report can be used to satisfy both the Education Department General Regulations (EDGAR) and the Part C ICC reporting requirements.

Topic Addressed: Natural Environments

• Letter dated November 1, 2000 to individual, (personally identifiable information redacted), regarding the requirements of providing early intervention services in natural environments and including appropriate justifications on the individualized family service plan (IFSP).

Topic Addressed: State Application and Assurances

• OSEP memorandum 01-3 dated November 8, 2000 regarding procedures for receiving Part C grant awards for Fiscal Year 2001.

Other Letters Relevant to the Administration of Idea Programs

Topic Addressed: Promotion and Retention

• Letter dated November 9, 2000 to individual, (personally identifiable information redacted), regarding the relevance of Part B provisions on the individualized education program (IEP), the IEP team, educational placement, and procedural safeguards to promotion and retention decisions.

Electronic Access to This Document

You may view this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the previous sites. If you have questions about using PDF, call the U.S. Government Printing Office (GPO), toll free, at 1-800-293-6498; or in the Washington, DC, area at (202) 512-1530.

Note: The official version of this document is published in the Federal Register. Free Internet access to the official edition of the Federal Register and the Code of Federal Regulations is available on GPO Access at: http://www.access.gpo.gov/nara/index.html

(Catalog of Federal Domestic Assistance Number 84.027, Assistance to States for Education of Children with Disabilities)

Dated: March 19, 2001.
Andrew Pepin,
Executive Administrator, Office of Special Education and Rehabilitative Services.

[FR Doc. 01-7125 Filed 3-21-01; 8:45 am]

BILLING CODE 4000-01-U